DEPARTMENT OF TRANSPORTATION

Coast Guard

33 CFR Part 117

[CGD01-02-118]

Drawbridge Operation Regulations: Danvers River, MA

AGENCY: Coast Guard, DOT.

ACTION: Notice of temporary deviation from regulations.

SUMMARY: The Commander, First Coast Guard District, has issued a temporary deviation from the drawbridge operation regulations for the Kernwood Bridge, mile 1.0, across the Danvers River in Massachusetts. This temporary deviation will allow the bridge to remain in the closed position from 7 a.m. on November 12, 2002 through 8 p.m. on November 14, 2002. This temporary deviation is necessary to facilitate structural repairs at the bridge.

DATES: This deviation is effective from November 12, 2002 through November 14, 2002.

FOR FURTHER INFORMATION CONTACT: John McDonald, Project Officer, First Coast Guard District, at (617) 223-8364.

SUPPLEMENTARY INFORMATION: The Kernwood Bridge has a vertical clearance in the closed position of 8 feet at mean high water and 17 feet at mean low water. The existing regulations are listed at 33 CFR 117.595.

The bridge owner, Massachusetts Highway Department, requested a temporary deviation from the drawbridge operating regulations to facilitate structural maintenance, replacement of the pinion bearing and support frame, at the bridge. The bridge must remain closed during these repairs. The bridge opening records indicate this bridge has received few requests to open during the requested closure time during past years.

This deviation from the drawbridge operation regulations will allow the bridge to remain in the closed position from 7 a.m. on November 12, 2002 through 8 p.m. on November 14, 2002.

This deviation from the drawbridge operation regulations is authorized under 33 CFR 117.35, and will be performed with all due speed in order to return the bridge to normal operation as soon as possible.

Dated: October 23, 2002.
V.S. Crea,
Rear Admiral, U.S. Coast Guard, Commander, First Coast Guard District.

[FR Doc. 02-27851 Filed 10-31-02; 8:45 am]

BILLING CODE 4910-15-P